ENVIRONMENTAL PROTECTION AGENCY

40 CFR Part 52

[EPA-R06-OAR-2014-0513; FRL-9956-46-Region 6]

Approval and Promulgation of Implementation Plans; Louisiana; State Boards

AGENCY: Environmental Protection Agency (EPA).

ACTION: Proposed rule.

SUMMARY: Pursuant to the Federal Clean Air Act (CAA or Act), the Environmental Protection Agency (EPA) is approving revisions to the Louisiana State Implementation Plan (SIP) that address requirements in CAA Section 128 regarding State Board composition and Conflict of Interest and Disclosure requirements.

DATES: Written comments should be received on or before January 27, 2017.

ADDRESSES: Submit your comments, identified by EPA-R06-OAR-2014-0513, at http://www.regulations.gov or via email to Donaldson.tracie@epa.gov. For additional information on how to submit comments see the detailed instructions in the ADDRESSES section of the direct final rule located in the rules section of this Federal Register.

FOR FURTHER INFORMATION CONTACT: Tracie Donaldson, (214) 665-6633, Donaldson.tracie@epa.gov.

SUPPLEMENTARY INFORMATION: In the final rules section of this Federal Register, the EPA is approving the State's SIP submittal as a direct rule without prior proposal because the Agency views this as a noncontroversial submittal and anticipates no adverse comments. A detailed rationale for the approval is set forth in the direct final rule. If no relevant adverse comments are received in response to this action no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the rules section of this Federal Register.

Dated: December 21, 2016.
Samuel Coleman,
Acting Regional Administrator, Region 6.

[FR Doc. 2016-31331 Filed 12-27-16; 8:45 am]

BILLING CODE 6560-50-P